DEPARTMENT OF STATE

[Public Notice: 7083]

IJC Will Review Bi-National Management of the Lake of the Woods and Rainy River Basin

By letters dated June 17, 2010, the Governments of Canada and the United States asked the International Joint Commission (IJC) to examine and make recommendations regarding the bi-national management of the Lake of the Woods and Rainy River system and the IJC's potential role in this management.

This review would serve to complement government activities that foster trans-jurisdictional coordination and collaboration on science and management activities to enhance and restore water quality in the basin. It would also contribute to any future approach to addressing new and emerging water quality issues and water management needs. A final report is expected to be released by the end of 2011. In the meantime, the IJC will make periodic reports to the governments that will include plans for engaging with federal governments and relevant provinces, First Nations, tribes and states, as well as the wider body of stakeholders and the public. The IJC anticipates holding public consultations on this matter at dates and locations to be announced in the local news media and on the IJC's Web site.

In addition to the public hearings, the IJC invites all interested parties to submit written comment over the course of this review to the addresses below: Secretary, Canadian Section, 234 Laurier Avenue West, 22nd Floor, Ottawa, Ontario K1P 6K6, Fax (613) 993-5583, E-mail Commission@ottawa.ijc.org. Secretary, United States Section, 2000 L Street, Suite 615, Washington, DC 20440, Fax (202) 632-2007, E-mail Commission@washington.ijc.org.

The International Joint Commission is a binational Canada-U.S. organization established by the Boundary Waters Treaty of 1909. It assists the governments in managing waters along the border for the benefit of both countries in a variety of ways including examining issues referred to it by the two federal governments.

More information, including the full text of the governments' letters of reference, may be found on the Commission's Web site, at http://www.ijc.org.

Dated: July 2, 2010.
Charles A. Lawson,
Secretary, U.S. Section, International Joint Commission, Department of State.

[FR Doc. 2010-16825 Filed 7-8-10; 8:45 am]

BILLING CODE 4710-14-P